DEPARTMENT OF ENERGY

Federal Energy Regulatory Commission

Combined Notice of Filings

June 24, 2005.

Take notice that the Commission received the following electric rate filings:

Docket Numbers: ER00-895-007.

Applicants: Onondago Cogeneration Limited Partnership.

Description: Onondaga Cogeneration Limited Partnership, in response to the letter order issued 6/16/05 in Docket Nos. ER00-895-001 and 006, informs the Commission that on 1/9/04 they submitted Original Sheet Nos. 5 and 6 to its FERC Electric Tariff, Original Volume 1, which incorporated the Commission's market behavior rules.

Filed Date: 06/21/2005.

Accession Number: 20050623-0114.

Comment Date: 5 p.m. eastern time on Tuesday, July 12, 2005.

Docket Numbers: ER02-245-001.

Applicants: North American Energy, L.L.C.

Description: North American Energy, L.L.C. submits an updated market power analyses, pursuant to FERC's 5/31/05 Order in Docket No. ER98-38009-000, et al.

Filed Date: 06/21/2005.

Accession Number: 20050623-0118.

Comment Date: 5 p.m. eastern time on Tuesday, July 12, 2005.

Docket Numbers: ER04-691-051; EL04-104-049; ER04-960-006.

Applicants: Midwest Independent Transmission System Operator, Inc.

Description: Midwest Independent Transmission System Operator, Inc. and Mid-Continent Area Power Pool submit a compliance filing pursuant to the Commission's 3/16/05 order, 110 FERC ¶ 61,290 (2005) .

Filed Date: 06/21/2005.

Accession Number: 20050623-0111.

Comment Date: 5 p.m. eastern time on Tuesday, July 12, 2005.

Docket Numbers: ER05-235-001; ER99-3502-003; ER02-137-003; ER02-579-003.

Applicants: El Paso Marketing, L.P.; Berkshire Power Company, L.L.C.; Mohawk River Funding III, L.L.C.; Capital District Energy Center Cogeneration Associates.

Description: El Paso Marketing, L.P., Berkshire Power Company, L.L.C., Mohawk River Funding III, L.L.C. and Capital District Energy Center Cogeneration Associates submit an updated market power analyses supporting their continued authorization to sell power at market-based rates.

Filed Date: 06/20/2005.

Accession Number: 20050623-0119.

Comment Date: 5 p.m. eastern time on Monday, July 11, 2005.

Docket Numbers: ER05-1134-000.

Applicants: Southern Company Services, Inc.

Description: Southern Company Services Inc., as agent for Alabama Power Company, Georgia Power Company, Gulf Power Company, Mississippi Power Company and Savannah Electric and Power Company, submits annual filing of revised accruals for post-retirement benefits other than pensions.

Filed Date: 06/21/2005.

Accession Number: 20050623-0038.

Comment Date: 5 p.m. eastern time on Tuesday, July 12, 2005.

Docket Numbers: ER05-1135-000.

Applicants: Miami Valley Lighting, LLC.

Description: Miami Valley Lighting, LLC submits its notice of cancellation of its FERC Electric Rate Schedule No. 1 which was accepted for filing by order issued 12/22/00.

Filed Date: 06/21/2005.

Accession Number: 20050623-0112.

Comment Date: 5 p.m. eastern time on Tuesday, July 12, 2005.

Docket Numbers: ER97-2801-007.

Applicants: PacifiCorp.

Description: PacifiCorp submits a notice of change in status informing the Commission of a departure from the characteristics relied upon by the Commission in its 6/11/02 order accepting its updated market power analysis.

Filed Date: 06/21/2005.

Accession Number: 20050623-0113.

Comment Date: 5 p.m. eastern time on Tuesday, July 12, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlinSupport@ferc.gov. or call (866) 208-3676 (toll free). For TTY, call (202) 502-8659.

Linda Mitry,
Deputy Secretary.

[FR Doc. E5-3455 Filed 6-30-05; 8:45 am]

BILLING CODE 6717-01-P